DEPARTMENT OF VETERANS AFFAIRS

Advisory Committee on Tribal and Indian Affairs, Notice of Meeting, Amended

The Department of Veterans Affairs (VA) gives notice under the Federal Advisory Committee Act, 5 U.S.C. ch. 10., that the Advisory Committee on Tribal and Indian Affairs will meet on February 27, 28 and 29, 2024 at the Choctaw Nation Headquarters, 1802 Chukaa Hina Drive, Durant, OK 74701. The meeting sessions will begin, and end as follows:

Dates | Times
February 27, 2024 | 8 a.m. to 5 p.m.—central standard time (CST).
February 28, 2024 | 8 a.m. to 4 p.m. CST.
February 29, 2024 | 8 a.m. to 4 p.m. CST.

The meeting sessions will be open to the public.

The purpose of the Committee is to advise the Secretary on all matters relating to Indian tribes, tribal organizations, Native Hawaiian organizations, and Native American Veterans. This includes advising the Secretary on the administration of healthcare services and benefits to American Indian/Alaska Natives (AI/AN) and Native Hawaiian Veterans; thereby assessing those needs and whether VA is meeting them.

On February 27, 2024, the agenda will include opening remarks from the Chief of the Choctaw Nation, Committee Chair, Executive Sponsor, and other VA officials. There will be a recap of prior the Committee's recommendations and follow-up from the agency, including updates regarding the co-pay exemption implementation for American Indian/Alaska Natives; cultural healers/natural helpers; cultural awareness training; VA/Indian Health Service (IHS) Memorandum Of Understanding Implementation Plan and suicide prevention. Further updates include Section 403 of the Mission Act on establishing VA's authority to establish medical residency in covered facilities to include non-VA facilities, such as IHS facilities or facilities operated by Indian tribes or tribal organizations. The Committee will tour the Choctaw Nation Healthcare Center/Oklahoma State University Residency Clinic.

On February 28, 2024, the agenda will include updates on Native American Direct Loan Program; Homeless Programs; Choctaw Nation Behavioral Health/VA Staff Sergeant Fox Grant for the suicide prevention, family counseling, women's domestic violence program; Tribal Veteran Service Officer Representation Expansion Project; Reimbursement Agreement Program/Tribal Health Programs/Purchase Referred Care expansion; Claims Clinic Events in Indian Country; and VA Office of Connected Care. The Committee will tour the VA Community Based Outpatient Clinic in Bonham, Texas.

On February 29, 2024, the meeting will start at 8 a.m. Public comment will be from 11 a.m. to 12 p.m.

The meetings are open to the public to attend in person and will be recorded. Individuals who wish to speak during the public comment session are invited to submit a 1-2-page summary of their comments no later than February 21, 2024, for inclusion in the official meeting record. Members of the public may also submit written statements for the Committee's review to Peter Vicaire, at Peter.Vicaire@va.gov. Any member of the public seeking additional information should contact Peter Vicaire at the email address above or by calling 612-558-7744.

Dated: February 6, 2024.
Jelessa M. Burney,
Federal Advisory Committee Management Officer.

[FR Doc. 2024-02740 Filed 2-9-24; 8:45 am]

BILLING CODE P